DEPARTMENT OF HEALTH AND HUMAN SERVICES

Centers for Disease Control and Prevention

National Center for Health Statistics (NCHS), Data Policy and Standards Staff, Announces the Following Meeting

Name: ICD-9-CM Coordination and Maintenance Committee meeting.

Time and Date: 9 a.m.-5 p.m., May 11, 2000.

Place: The Health Care Financing Administration, Multipurpose room, 7500 Security Boulevard, Baltimore, Maryland.

Status: Open to the public.

Purpose: The ICD-9-CM Coordination and Maintenance (C&M) Committee will hold its first meeting of the calendar year 2000 cycle on Thursday, May 11, 2000. The C&M meeting is a public forum for the presentation of proposed modifications to the International Classification of Diseases, Ninth-Revision, Clinical Modification.

Matters to be Discussed: Agenda items include:

Head injuries

Mammografic microcalcification

Myofascial pain syndrome

Stress Fracture

Periventricular leukomalacia

Posttraumatic wound infection versus complicated open wound

Premature menopause

Update on the ICD-10-PCS coding system

Thoracic aortic aneurysm repair

Lysis of adhesions

Penile plethysmography with nerve stimulation

Percutaneous endoscopic gastrojejunostomy (PEJ)

Spinal fusion for pseudoarthosis

Addenda

Contact Person for Additional Information: Amy Blum, Medical Classification Specialist, Data Policy and Standards Staff, NCHS, 6526 Belcrest Road, Room 1100, Hyattsville, Maryland 20782, telephone 301/458-4106 (diagnosis), Amy Gruber, Health Insurance Specialist, Division of Acute Care, HCFA, 7500 Security Blvd., Room C4-07-07, Baltimore, Maryland, 21244 telephone 410-786-1542 (procedures).

Notice: In the interest of security, the H.C.F.A. has instituted stringent procedures for entrance into the building by non-government employees. Persons without a government I.D. will need to show a photo I.D. and sign-in at the security desk upon entering the building.

Notice: This is a public meeting. However, because of fire code requirements, should the number of attendants meet the capacity of the room the meeting will be closed.

The Director, Management Analysis and Services Office, has been delegated the authority to sign Federal Register notices pertaining to announcements of meetings and other committee management activities, for both CDC and the Agency for Toxic Substances and Disease Registry.

Dated: April 18, 2000.
John Burckhardt,
Acting Director, Management Analysis and Services Office, Centers for Disease Control and Prevention (CDC).

[FR Doc. 00-10082 Filed 4-23-00; 8:45 am]

BILLING CODE 4160-18-P